DEPARTMENT OF THE INTERIOR

National Park Service

[2253-665]

Notice of Inventory Completion: Denver Museum of Nature & Science, Denver, CO

AGENCY: National Park Service, Interior.

ACTION: Notice.

SUMMARY: The Denver Museum of Nature & Science has completed an inventory of human remains and associated funerary objects, in consultation with the appropriate Indian tribes, and has determined that there is no cultural affiliation between the remains and associated funerary objects and any present-day Indian tribe. Representatives of any Indian tribe that believes itself to be culturally affiliated with the human remains and associated funerary objects may contact the museum. Disposition of the human remains and associated funerary objects to the Indian tribes stated below may occur if no additional requestors come forward.

DATES: Representatives of any Indian tribe that believes it has a cultural affiliation with the human remains should contact the Denver Museum of Nature & Science at the address below by April 14, 2011.

ADDRESSES: Dr. Chip Colwell-Chanthaphonh, Denver Museum of Nature & Science, 2001 Colorado Blvd., Denver, CO 80205, telephone (303) 370-6378.

SUPPLEMENTARY INFORMATION: Notice is here given in accordance with the Native American Graves Protection and Repatriation Act (NAGPRA), 25 U.S.C. 3003, of the completion of an inventory of human remains and associated funerary objects in the possession of the Denver Museum of Nature & Science, Denver, CO. The human remains and associated funerary objects were removed from Miami-Dade County and possibly Monroe County, FL.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Denver Museum of Nature & Science professional staff in consultation with representatives of the Miccosukee Tribe of Indians of Florida, Seminole Nation of Oklahoma, and the Seminole Tribe of Florida (Dania, Big Cypress, Brighton, Hollywood & Tampa Reservations) (hereinafter referred to as “The Tribes”).

History and Description of the Remains

In 1964, human remains representing a minimum of two individuals were removed from a burial context at an unknown mound site in the Upper Keys of Miami-Dade County, FL, by Jerry Ellis and Dr. David Milliman. On July 21, 1964, Francis V. and Mary W.A. Crane obtained the human remains from Mr. Ellis. The Cranes donated the remains to the museum in 1968 and they were accessioned into the collections (AC.8315A (CUI 68) and AC.8315B (CUI 69)). The remains include partial cranial fragments representing two adult males. Catalogue records suggested a possible affiliation of Calusa. No known individuals were identified. The six associated funerary objects are one clam shell mortar and pestle, one shell drill, one shell pendant, and two shell scrapers (DMNS catalogue numbers AC.8316A-B; AC.8317; AC.8318; AC8319; and AC.8320).

Between 1957 and 1958, human remains representing a minimum of one individual were reportedly removed from a burial context at the Tallman Site on Plantation Key, Monroe County, FL, by Hugh and Hilda Davis, Dan Laxson, and George B. Stevenson. Additional catalogue records, however, indicate that the same human remains may have been removed from the DuPont Plaza Site in Miami-Dade County, FL. In 1959, Stevenson and Laxson donated the remains and various other materials excavated from the site to the Southeast Museum of the American Indian (a private museum founded by Francis V. and Mary W.A. Crane). In 1968, the Cranes donated their collection to the Denver Museum of Nature & Science (then the Denver Museum of Natural History) (AC.9248A (CUI 70)). No known individual was identified. The 100 associated funerary objects are 94 animal bones, 1 potsherd, 3 coral fragments, 1 shell fragment, and 1 bag of dirt and unsorted animal skeletal material (DMNS catalogue number AC. 9248B).

These remains and other materials were catalogued as 9248 within the Crane Collection. The majority of the Crane American Indian Collection was accessioned into the collections with the same catalogue number assigned by the Cranes, but preceded by AC. However, the human remains and other material excavated from Plantation Key, FL, were accessioned into the archeology collection as A558 instead of AC.9248. It appears that the human remains were stored in a separate box within the rest of the archeological material from the Plantation Key excavation. In 1998, that box was removed from the archeology collections and assigned catalogue number AC.9248. The contents of the box were sorted into two distinct groups, the human remains and 100 associated funerary objects. Several hundred objects from the Plantation Key excavation remain in the archeology collections and are still catalogued as A558, and the museum is working in consultation with the Miccosukee Tribe of Indians of Florida to deaccession the remaining portion of the Plantation Key and DuPont Plaza materials (DMNS catalogue number A558).

Determinations Made by the Denver Museum of Nature & Science

Officials of the Denver Museum of Nature & Science have determined that:

• Based on non-destructive physical analysis and catalogue records, the human remains are Native American.

• Pursuant to 25 U.S.C. 3001(2), a relationship of shared group identity cannot be reasonably traced between the Native American human remains and associated funerary objects and any present-day Indian tribe.

• According to final judgments of the Indian Claims Commission, the land from which the Native American human remains and associated funerary objects were removed is the aboriginal land of the Seminole Nation of Oklahoma and the Seminole Tribe of Florida (Dania, Big Cypress, Brighton, Hollywood & Tampa Reservations).

• Multiple lines of evidence, including treaties, Acts of Congress, and Executive Orders, indicate that the land from which the Native American human remains and associated funerary objects were removed is the aboriginal land of the Miccosukee Tribe of Indians of Florida and the Seminole Tribe of Florida (Dania, Big Cypress, Brighton, Hollywood & Tampa Reservations).

• Other credible lines of evidence, obtained through consultation with tribal representatives, indicate that the land from which the Native American human remains and associated funerary objects were removed is the aboriginal land of The Tribes.

• Pursuant to 25 U.S.C. 3001(9), the human remains described in this notice represent the physical remains of three individuals of Native American ancestry.

• Pursuant to 25 U.S.C. 3001(3)(A), the 106 objects described above are reasonably believed to have been placed with or near individual human remains at the time of death or later as part of the death rite or ceremony.

• Pursuant to 43 CFR 10.11(c)(1), the disposition of the human remains is to The Tribes.

Additional Requestors and Disposition

Representatives of any Indian tribe that believes itself to be culturally affiliated with the human remains or any other Indian tribe that believes it satisfies the criteria in 43 CFR 10.11(c)(1) should contact Dr. Chip Colwell-Chanthaphonh, Denver Museum of Nature & Science, 2001 Colorado Blvd., Denver, CO 80205, telephone (303) 370-6378, before April 14, 2011. Disposition of the human remains and associated funerary objects to The Tribes may proceed after that date if no additional requestors come forward.

The Denver Museum of Nature & Science is responsible for notifying The Tribes that this notice has been published.

Dated: March 9, 2011.
Sherry Hutt,
Manager, National NAGPRA Program.

[FR Doc. 2011-5857 Filed 3-14-11; 8:45 am]

BILLING CODE 4312-50-P